SMALL BUSINESS ADMINISTRATION

[License No. 01/01-0435]

Ironwood Mezzanine Fund IV-A, L.P.; Notice Seeking Exemption Under Section 312 of the Small Business Investment Act, Conflicts of Interest

Notice is hereby given that Ironwood Mezzanine Fund IV-A, L.P., 45 Nod Road, Suite 2, Avon, CT 06001, a Federal Licensee under the Small Business Investment Act of 1958, as amended (“the Act”), in connection with a financing of a small concern, has sought an exemption under Section 312 of the Act and Section 107.730, Financings which Constitute Conflicts of Interest of the Small Business Administration (“SBA”) Rules and Regulations (13 CFR 107.730). Ironwood Mezzanine Fund IV-A, L.P. proposes to provide debt and equity financing for the purpose of purchasing a subsidiary (Capewell Intermediate Holding, LLC) from an Associate, Capewell Holding, LLC. Capewell Holding, LLC is an Associate because Ironwood Mezzanine Fund III-A L.P., an Associate of Mezzanine Fund IV-A, L.P., owns more than ten percent of Capewell Holding, LLC.

The financing is brought within the purview of § 107.730(a) of the Regulations because proceeds from the transaction will directly benefit Associates Ironwood Mezzanine Fund III, L.P. and Ironwood Mezzanine Fund III-A, L.P.

Notice is hereby given that any interested person may submit written comments on this transaction within fifteen days of the date of this publication to the Associate Administrator, Office of Investment and Innovation, U.S. Small Business Administration, 409 Third Street SW, Washington, DC 20416.

A. Joseph Shepard,
Associate Administrator, Office of Investment and Innovation.

[FR Doc. 2018-16415 Filed 7-31-18; 8:45 am]

BILLING CODE P